DEPARTMENT OF THE TREASURY

Submission for OMB Review; Comment Request

June 30, 2003.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before August 7, 2003 to be assured of consideration.

Internal Revenue Service (IRS)

OMB Number: 1545-0193.

Form Number: IRS Form 4972.

Type of Review: Revision.

Title: Tax on Lump-Sum Distributions (From Qualified Retirement Plans or Plan Participants Born Before 1936).

Description: Internal Revenue Code (IRC) section 402(e) allows taxpayers to compute a separate tax on a lump-sum distribution from a qualified retirement plan. Form 4972 is used to correctly figure that tax. The data is used to verify the correctness of the separate tax. Form 1972 is also used to make the special 20% capital gain election attributable to pre-1974 participation from the lump-sum distribution.

Respondents: Individuals or households.

Estimated Number of Respondents/Recordkeepers: 35,000.

Estimated Burden Hours Per Respondent/Recordkeeper:

Recordkeeping: 52 minutes

Learning about the law or the form: 19 minutes

Preparing the form: 1 hour, 11 minutes

Copying, assembling, and sending the form to the IRS: 20 minutes

Frequency of Response: Annually.

Estimated Total Reporting/Recordkeeping Burden: 95,550 hours.

OMB Number: 1545-1020.

Form Number: IRS Form 1041-T.

Type of Review: Revision.

Title: Allocation of Estimated Tax Payments to Beneficiaries.

Description: This form was developed to allow a trustee of a trust or an executor of an estate to make the election under Internal Revenue Code (IRS) section 643(g) to allocate any payment of estimated tax to a beneficiary(ies). This form serves as a transmittal so that Service Center personnel can determine the correct amounts that are to be transferred from the fiduciary's account to the individual's account.

Respondents: Business or other for-profit.

Estimated Number of Respondents/Recordkeepers: 1,000.

Estimated Burden Hours Per Respondent/Recordkeeper:

Recordkeeping: 19 minutes

Learning about the law or the form: 4 minutes

Preparing the form: 18 minutes

Copying, assembling, and sending the form to the IRS: 16 minutes

Frequency of Response: Other (when such election is made).

Estimated Total Reporting/Recordkeeping Burden: 990 hours.

OMB Number: 1545-1441.

Form Number: IRS Form 2106-EZ.

Type of Review: Revision.

Title: Unreimbursed Employee Business Expenses.

Description: Internal Revenue Code (IRC) section 62 allows employees to deduct their business expenses to the extent of reimbursement in computing “Adjusted Gross Income”. Expenses in excess of reimbursements are allowed as an itemized deduction. Unreimbursed meals and entertainment are allowed to the extent of 50% of the expense. Form 2106-EZ is sued to figure these expenses.

Respondents: Individuals or households.

Estimated Number of Respondents/Recordkeepers: 3,337,019.

Estimated Burden Hours Per Respondent/Recordkeeper:

Recordkeeping: 39 minutes

Learning about the law or the form: 12 minutes

Preparing the form: 24 minutes

Copying, assembling, and sending the form to the IRS: 20 minutes

Frequency of Response: Annually.

Estimated Total Reporting/Recordkeeping Burden: 5,339,231 hours.

OMB Number: 1545-1837.

Revenue Procedure Number: Revenue Procedure 2003-36.

Type of Review: Extension.

Title: Industry Issue Program.

Description: Revenue Procedure 2003-36 describes the procedure for business taxpayers, industry associations, and others representing business taxpayers to submit issues for resolution under the IRS” Industry Issues Resolution Program.

Respondents: Business or other for-profit.

Estimated Number of Respondents: 50.

Estimated Burden Hours Per Respondent: 40 hours.

Frequency of Response: On occasion.

Estimated Total Reporting Burden: 2,000 hours.

Clearance Officer: Glenn Kirkland, (202) 622-3428, Internal Revenue Service, Room 6411-03, 1111 Constitution Avenue, NW., Washington, DC 20224.

OMB Reviewer: Joseph F. Lackey, Jr., (202) 395-7316, Office of Management and Budget, Room 10235, New Executive Office Building, Washington, DC 20503.

Lois K. Holland,
Treasury PRA Clearance Officer.

[FR Doc. 03-17199 Filed 7-7-03; 8:45 am]

BILLING CODE 4830-01-U